DEPARTMENT OF THE INTERIOR

Bureau of Land Management

[OR-027-1110-JM-H2KO; G-05-0219]

Notice of Availability of a Draft Environmental Impact Statement for the North Steens Ecosystem Restoration Project

AGENCY: Bureau of Land Management (BLM), Interior.

ACTION: Notice of availability.

SUMMARY: In accordance with the National Environmental Policy Act of 1969, the Federal Land Policy and Management Act of 1976, and the Steens Mountain Cooperative Management and Protection Act of 2000, the BLM has prepared a Draft Environmental Impact Statement to analyze and undertake the North Steens Ecosystem Restoration Project. The proposed project area lies within the Steens Mountain Cooperative Management and Protection Area, designated by the Steens Mountain Cooperative Management and Protection Act of 2000, and the Andrews Management Unit, lands outside the boundary of the Cooperative Management and Protection Area but within the boundary of the Andrews Resource Area. The project is located in Harney County, Oregon, and affects approximately 336,000 acres of public and private lands.

The Draft Environmental Impact Statement evaluates five alternative management approaches including two No Action (continuation of current management and no treatment) Alternatives.

DATES: Written comments on the Draft Environmental Impact Statement will be accepted for 45 days following publication of the Environmental Protection Agency's Notice of Availability for this Draft Environmental Impact Statement in the Federal Register. Future public meetings and any other public involvement activities will be announced in advance through notices, media news releases, and/or mailings.

ADDRESSES/COMMENTS: Written comments should be sent to North Steens Ecosystem Restoration Project Environmental Impact Statement Lead, BLM Burns District Office, 28910, Highway 20 West, Hines, Oregon 97738; (541) 573-4543; fax (541) 573-4411; or e-mail (ornseis@blm.gov). Comments, including names, street addresses, and other contact information of respondents, will be available for public review. Individual respondents may request confidentiality. If you wish to request that BLM consider withholding your name, street address, and other contact information such as internet address, fax or phone number from public review or from disclosure under the Freedom of Information Act, you must state this prominently at the beginning of your comment. The BLM will honor requests for confidentiality on a case-by-case basis to the extent allowed by law. The BLM will make available for public inspection in their entirety all submissions from organizations or businesses and from individuals identifying themselves as representatives or officials of organizations or businesses.

Copies of the Draft Environmental Impact Statement will be sent to affected Federal, Tribal, State and local government agencies, and to interested publics and will be available at the BLM Burns District Office. The supporting record for the analysis for the Draft Environmental Impact Statement is available for inspection at the BLM Burns District Office during normal business hours (7:45 a.m. to 4:30 p.m. Monday through Friday, except holidays).

FOR FURTHER INFORMATION CONTACT: For further information and/or to have your name added to our mailing list, contact Douglas Linn (541) 573-4543 at the BLM Burns District Office.

SUPPLEMENTARY INFORMATION: The North Steens Ecosystem Restoration Project is a landscape-level project proposing to utilize a combination of western juniper treatments (mechanical and nonmechanical methods) and wildland (prescribed and natural) fire to treat fuels and to restore habitat. Implementation of the project would reduce the increased influence of western juniper and related fuels in mountain big sagebrush, low sagebrush, quaking aspen, mountain mahogany, old growth juniper (established before 1870), and riparian plant communities.

Section 113(c) of the Steens Mountain Cooperative Management and Protection Act of 2000 states, “The Secretary shall emphasize the restoration of the historic fire regime in the Cooperative Management and Protection Area and the resulting native vegetation communities through active management of western juniper on a landscape level. Management measures shall include the use of natural and prescribed burning.”

The Resource Management Plans for the Steens Mountain Cooperative Management and Protection Area and the Andrews Management Unit contain overall direction and guidance for proposed management actions such as those analyzed in the North Steens Ecosystem Restoration Project Environmental Impact Statement. Management actions analyzed include seeding of native species, reduction of western juniper (established before 1870), fencing, and management of wildland fire.

Preliminary issues and management concerns were identified by BLM and through public scoping. Major issues addressed in the Environmental Impact Statement include management of woodlands, rangeland vegetation, Steens Mountain Wilderness, wilderness study areas, wild and scenic river corridors, wildlife habitat, special status species, wildland fire/fuels, recreation, cultural resources, noxious weeds, water quality, aquatic resources, fisheries, biological soil crusts, and social and economic values. The Draft Environmental Impact Statement considered American Indian traditional practices.

Cooperating agencies having specific expertise or interests in the project were invited to participate. The public and interest groups also participated and will continue to have every opportunity to participate during formal comment periods. The public and interest groups will also have opportunities for participation through the regularly scheduled Steens Mountain Advisory Council meetings.

The Draft Environmental Impact Statement contains five alternatives. The Continuation of Current Management No Action Alternative does not propose any increase above current levels of western juniper management or fuels reduction within the North Steens Ecosystem Restoration Project area. Private lands could still be treated according to landowner management objectives. Management of naturally occurring wildland fires would still occur in the North Steens Ecosystem Restoration Project area under this alternative, but management would be for purposes of restoring natural fire to the Cooperative Management and Protection Area.

The No Treatment No Action Alternative does not propose any fuels reduction through western juniper treatments. This alternative is not consistent with the Andrews Management Unit or Steens Mountain Cooperative Management and Protection Area Resource Management Plan direction. This alternative does not meet the objectives of the North Steens Ecosystem Restoration Project but is analyzed for purposes of effect analysis and comparison. Under this alternative, encroaching juniper would not be managed in the North Steens Ecosystem Restoration Project area. Natural wildland fires would still occur in the project area and would be managed in a manner consistent with the Resource Management Plans and the BLM Burns District's Fire Management Plan.

The Partial Landscape Alternative proposes active fuels reduction and juniper management on private and public lands outside of wilderness, wilderness study areas, and wild and scenic river corridors. Management of naturally occurring wildland fires would still occur in the aforementioned areas under this alternative.

The Limited Landscape Alternative incorporates many of the description and features of the Partial Landscape Alternative. Management of naturally occurring wildland fires would occur in wilderness, wilderness study areas, and wild and scenic river corridor areas under this alternative and would include the use of prescribed wildland fire for western juniper management and fuels reduction and restoration of natural fire regimes.

The Full Landscape Alternative incorporates many of the description and features of the Partial Landscape Alternative and Limited Landscape Alternatives. The Full Landscape Alternative proposes active, landscape-level, western juniper management and fuels reduction on private and public lands including wilderness, wilderness study areas, and wild and scenic river corridors. Management of naturally occurring wildland fires would occur in the aforementioned areas under this alternative. Management could include the use of prescribed wildland fire, nonmotorized hand tools and nonmechanized transportation for western juniper management and fuels reduction. Additional treatment methods, including the use of other tools following publication of a minimum requirement decision guide, could be considered after a project review occurring on a 3- to 5-year basis.

Public input during scoping as well as internal scoping identified at least 20 issues for analysis in the Environmental Impact Statement. These issues are outlined in Chapter 1 of the Draft Environmental Impact Statement.

Opportunities for public involvement have included two separate public scoping periods. Along with participation by the Steens Mountain Advisory Council, the BLM Burns District has worked with Harney County Court, Oregon Department of Fish and Wildlife, Oregon Department of Environmental Quality, U.S. Fish and Wildlife Service, Ecological Services, Malheur National Wildlife Refuge, Eastern Oregon Agricultural Research Center, Burns Paiute Tribe, and Harney Soil and Water Conservation District.

Dana R. Shuford,
BLM Burns District Manager.

[FR Doc. E6-1869 Filed 2-9-06; 8:45 am]

BILLING CODE 4310-33-P